DEPARTMENT OF COMMERCE

International Trade Administration

[A-552-801]

Certain Frozen Fish Fillets from the Socialist Republic of Vietnam: Rescission, in Part, and Extension of Time Limit for Preliminary Results of the Second Antidumping Duty Administrative Review

AGENCY: Import Administration, International Trade Administration, Department of Commerce.

EFFECTIVE DATE: February 7, 2006.

SUMMARY: The Department of Commerce (the “Department”) is partially rescinding the administrative review of eighteen companies under the antidumping duty order on certain frozen fish fillets from the Socialist Republic of Vietnam (“Vietnam”) for the period of review (“POR”), August 1, 2004, through July 31, 2005. This partial rescission covers 18 companies for which the Department received a timely withdrawal of the request for review and a company which had no entries, exports, or sales of the subject merchandise during the POR. A complete list of the companies for which the administrative review is being rescinded is provided in the “Rescission, in Part, of Administrative Review” section below. The Department is not rescinding the review with respect to An Giang Agriculture Technology Service Company (“ANTESCO”); Anhaco; Binh Dinh Import Export Company (“Binh Dinh”); QVD Food Company, Ltd. (“QVD”); Can Tho Animal Fishery Products Processing Export Enterprise (“Cafatex”); Mekongfish Company (“Mekonimex”); Can Tho Agricultural and Animal Products Import Export Company (“CATACO”); An Giang Agriculture and Food Import Export Company (“Afiex”); Phan Quan Trading Co., Ltd. (“Phan Quan”); Nam Viet Company Limited (“Navico”); and Vinh Long Import-Export Company (“Vinh Long”).

Additionally, for the reasons discussed below, the Department is extending the preliminary results of this administrative review by an additional 120 days, to no later than August 31, 2006.

FOR FURTHER INFORMATION CONTACT: Julia Hancock or Cindy Robinson, AD/CVD Operations, Office 9, Import Administration, International Trade Administration, U.S. Department of Commerce, 14th Street and Constitution Avenue, NW., Washington, DC 20230; telephone: (202) 482-1394 and (202) 482-3797, respectively.

SUPPLEMENTARY INFORMATION:

Background

On August 1, 2005, the Department published a notice of an opportunity to request an administrative review on the antidumping duty order on certain frozen fish fillets from Vietnam. See Antidumping or Countervailing Duty Order, Finding, or Suspended Investigation; Notice of Opportunity To Request Administrative Review, 70 FR 44085 (August 1, 2005) (“Notice of Opportunity”); Notice of Antidumping Duty Order: Certain Frozen Fish Fillets from the Socialist Republic of Vietnam, 68 FR 47909 (August 12, 2003) (“Order”). Pursuant to its Notice of Opportunity, and in accordance with section 751(a)(1)(B) of the Tariff Act of 1930, as amended (“the Act”), and section 351.213(b) of the Department's regulations, the Department received a request from the Catfish Farmers of America and individual U.S. catfish processors (collectively, “Petitioners”) for a review covering twenty-nine exporters. These twenty-nine exporters are: An Giang Fisheries Import and Export Joint Stock Company (“Agifish”); ANTESCO; Anhaco; Bamboo Food Co., Ltd. (“Bamboo Food”); Binh Dinh; Da Nang Seaproducts Import-Export Corporation (“Danang”); Duyen Hai Foodstuffs Processing Factory (“Coseafex”); Gepimex 404 Company (“Gepimex”); Hai Vuong Co., Ltd. (“Hai Vuong”); Kien Giang Ltd. (“Kien Giang”); Mekonimex; Phuoc My Seafoods Processing Factory (“Phuoc My”); Phu Thanh Frozen Factory (“Phu Thanh”); Seaprodex Saigon; Tan Thanh Loi Frozen Food Co., Ltd. (“Tan Thanh Loi”); Thangloi Frozen Food Enterprise (“Thangloi Frozen Food”); Thanh Viet Co., Ltd. (“Thanh Viet”); Thuan Hung Co., Ltd. (“Thuan Hung”); Tin Thinh Co., Ltd. (“Tin Thinh”); Vifaco; Vinh Long; Viet Hai Seafood Company Limited (“Vietnam Fish-One”); QVD; Vinh Hoan Company Limited (“Vinh Hoan”); CATACO; Afiex; Phan Quan; and Navico. Additionally, the following six exporters individually requested a review: QVD; Vinh Hoan; CATACO; Afiex; Phan Quan; and Navico. No other interested party requested a review.

On September 28, 2005, the Department published its notice of initiation of an antidumping administrative review on certain frozen fish fillets from Vietnam. See Initiation of Antidumping and Countervailing Duty Administrative Reviews and Request for Revocation in Part, 70 FR 56631 (September 28, 2005) (“Initiation Notice”). We initiated the review covering all 29 companies for which an administrative review was requested.

Withdrawal of Requests for Review

On November 21, 2005, Petitioners withdrew their request with respect to the following fourteen exporters that did not individually request a review: Bamboo Food; Coaseafex; Gepimex; Hai Vuong; Kien Giang; Phu Thanh; Phuoc My; Seaprodex Saigon; Tan Thanh Loi; Thangloi Frozen Food ; Thanh Viet; Thuan Hung; Tin Thinh; and Vifaco. Additionally, Petitioners withdrew their request with respect to the following three companies that did individually request a review: Afiex; Phan Quan; and Vinh Hoan.

On December 23, 2003, Vinh Hoan withdrew its request for an administrative review. Additionally, on December 23, 2005, H&N Foods International (“H&N”), a U.S. importer of the subject merchandise, requested that the Department extend the deadline for withdrawing requests for review by 30 days.

On December 27, 2005, Vinh Hoan submitted a letter to the Department requesting that its withdrawal letter dated December 23, 2005, be disregarded. Additionally, on December 27, 2005, the Department extended by ten days the deadline that parties which requested an administrative review of this Order may withdraw their request, from December 27, 2005, to January 6, 2006.

On January 5, 2006, H&N requested that the Department extend the deadline for withdrawing requests for review until two days after the Department's issuance of its decision regarding respondent selection. On January 9, 2006, Vinh Hoan again withdrew its request for a review.

On January 11, 2006, Petitioners withdrew their request with respect to two additional companies, Danang and Agifish, both of which did not individually request a review. Petitioners also did not object to Vinh Hoan's January 9, 2006, second request to withdraw its request for a review.¹

¹ In this case, the Department is accepting the withdrawal of administrative review requests from Vinh Hoan and Petitioners, with respect to Agifish and Danang, as it had not yet expended significant resources on the review of those entities.

Accordingly, for 17 of the twenty-nine companies for which the Department initiated a review, the Department subsequently received timely withdrawal requests.

Quantity and Value (“Q&V”) Information

On September 14, 2005, the Department issued a quantity and value (“Q&V”) questionnaire to the 29 named firms, requesting the quantity and value of subject merchandise exported during the POR.

On September 20, 2005, Vietnam Fish-One submitted a letter to the Department indicating it did not have sales, shipments, or entries of the subject merchandise to the United States during the POR.

On November 21, 2005, Petitioners submitted comments regarding respondent selection. Specifically, Petitioners requested that the Department confirm with U.S. Customs and Border Protection (“CBP”) that Vietnam Fish-One had no shipments of subject merchandise to the United States during the POR. Petitioners argued that shipments of subject merchandise from Vietnam Fish-One may have entered into the United States through Canada.

On December 7, 2005, Vietnam Fish-One submitted a response to Petitioners' respondent selection comments. Specifically, Vietnam Fish-One stated that it made no transhipments of subject merchandise to the United States through Canada during the POR.

Rescission, in Part, of Administrative Review

Pursuant to section 351.213(d)(1) of the Department's regulations, the Department may rescind an administrative review, “if a party that requested the review withdraws the request within 90 days of the date of publication of notice of initiation of the requested review.” Because Petitioners timely withdrew their request for an administrative review of the seventeen exporters listed below, and because Vinh Hoan withdrew its request for an administrative review and no other party requested a review of these companies, we are rescinding this administrative review, in part, for the period August 1, 2004, through July 31, 2005, for the following companies: Agifish; Bamboo Food; Coaseafex; Danang; Gepimex; Hai Vuong; Kien Giang; Phu Thanh; Phuoc My; Seaprodex Saigon; Tan Thanh Loi; Thangloi Frozen Food; Thanh Viet; Thuan Hung; Tin Thinh; Vifaco; and Vinh Hoan.

Additionally, pursuant to section 351.213(d)(3) of the Department's regulations, the Department may rescind an administrative review, “to a particular exporter or producer, if the Secretary concludes that, during the period covered by the review, there were no entries, exports, or sales of the subject merchandise, as the case may be.” Accordingly, we are rescinding this review with respect to Vietnam Fish-One, which reported no shipments of subject merchandise during the POR. Petitioners argued that publicly available shipment data obtained from PIERS² indicates that Vietnam Fish-One may have sold subject merchandise that entered into the United States through Canada during the POR. See Petitioners' Resubmission of Comments on Respondent Selection in the Second Administrative Review (November 29, 2005) at 2, Footnote 4, Attachment 2. However, Vietnam Fish-One stated in response that it contacted all of its customers and that all shipments entered into Canada were destined for Canada. Thus, none of Vietnam Fish-One's shipments of subject merchandise to Canada were delivered to the United Stated during the POR. See Vietnam Fish-One's Response to Petitioners' Allegation of Transshipments (December 7, 2005) at 1. Additionally, we examined shipment data furnished by CBP for the producer/exporter identified above and are satisfied that the record does not indicate that there were U.S. entries of subject merchandise from this company during the POR.

² http://www.piers.com/

The Department will issue appropriate assessment instructions directly to CBP within 15 days of the publication of this notice. The Department will direct CBP to assess antidumping duties for these companies at the cash deposit rate in effect on the date of entry for entries during the period August 1, 2004, through July 31, 2005.

Selection of Respondents and Issuance of Questionnaires

On January 13, 2006, the Department selected the following four companies as mandatory respondents: QVD; Cafatex; Mekonimex; and CATACO. See Memorandum to Stephen J. Claeys, Deputy Assistant Secretary for Import Administration, from James C. Doyle, Office Director, Office 9, AD/CVD Operations, Import Administration, Subject: Antidumping Duty Administrative Review of Certain Frozen Fish Fillets from the Socialist Republic of Vietnam: Selection of Respondents (January 13, 2006). On January 17, 2006, the Department sent a questionnaire to the above four mandatory respondents. On January 18, 2006, the Department sent a Section A questionnaire to the following three non-mandatory respondents: Afiex; Phan Quan; and Navico.

Request for Extension of the Preliminary Results

On January 17, 2006, Petitioners submitted a timely request for a 120 day extension of the preliminary results of this review. The preliminary results of this administrative review are currently due no later than May 3, 2006.

Extension of Time Limit for Preliminary Results

Pursuant to section 751(a)(3)(A) of the Act, the Department shall issue preliminary results in an administrative review of an antidumping duty order within 245 days after the last day of the anniversary month of the date of publication of the order. The Act further provides, however, that the Department may extend that 245-day period to 365 days if it determines it is not practicable to complete the review within the foregoing time period. The Department finds that it is not practicable to complete the preliminary results in the administrative review of certain frozen fish fillets from Vietnam within this time limit. Specifically, it is necessary to extend the deadline of the preliminary results because (1) the Department did not select the respondents for this review until January 13, 2006, (2) the Department will need time to collect and analyze questionnaire responses for all mandatory respondents and issue supplemental questionnaires where necessary, and (3) the Department needs additional time to collect and analyze the responses of companies who previously have never been mandatory respondents. Accordingly, the Department finds that additional time is needed in order to complete these preliminary results.

Section 751(a)(3)(A) of the Act and section 351.213(h)(2) of the Department's regulations allow the Department to extend the deadline for the preliminary results to a maximum of 365 days from the last of the anniversary month of the order. For the reasons noted above, we are extending the time for the completion of the preliminary results of this review until no later than August 31, 2006. The deadline for the final results of the administrative review continues to be 120 days after the publication of the preliminary results.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(2)(c) and 777(i)(1) of the Act.

Dated: January 30, 2006.
Stephen J. Claeys,
Deputy Assistant Secretary for Import Administration.

[FR Doc. E6-1608 Filed 2-6-06; 8:45 am]

BILLING CODE 3510-DS-S